DEPARTMENT OF THE INTERIOR

Bureau of Reclamation

Notice of Availability of the Draft Environmental Impact Statement for the Arkansas Valley Conduit and Long-Term Excess Capacity Master Contract, Fryingpan-Arkansas Project; Bent, Chaffee, Crowley, El Paso Pueblo, Fremont, Kiowa, Otero, and Prowers Counties, CO

AGENCY: Bureau of Reclamation, Interior.

ACTION: Notice of availability and public hearings.

SUMMARY: The Bureau of Reclamation has made available for public review and comment the draft environmental impact statement (EIS) for the Arkansas Valley Conduit and Long-Term Excess Capacity Contract, Fryingpan-Arkansas Project, Colorado.

The proposed Arkansas Valley Conduit, conveyance contract for the Pueblo Dam north-south outlet works interconnect, and long-term excess capacity master contract to store water in available space in Pueblo Reservoir would deliver high quality water that would meet Environmental Protection Agency and state water quality requirements and help water providers throughout the Arkansas River Basin in Colorado reliably meet existing and future water demands.

DATES: Submit written comments on the Draft EIS on or before October 30, 2012.

Public hearings will be held on:

1. Monday, September 24, 2012, 6:30 p.m. to 8 p.m., Salida, Colorado.

2. Tuesday, September 25, 2012, 1 p.m. to 2:30 p.m., and 6:30 p.m. to 8 p.m., Pueblo, Colorado.

3. Wednesday, September 26, 2012, 6:30 p.m. to 8 p.m., La Junta, Colorado.

4. Thursday, September 27, 2012, 6:30 p.m. to 8 p.m., Lamar, Colorado.

ADDRESSES: Submit written comments on the Draft EIS to Ms. J. Signe Snortland, Bureau of Reclamation, P.O. Box 1017, Bismarck, North Dakota 58502; or by email to jsnortland@usbr.gov.

The public hearings will be held at:

1. Salida—Salida Community Center, 305 F Street, Salida, Colorado 81201.

2. Pueblo—Pueblo Convention Center, 320 Central Main St., Pueblo, Colorado 81003.

3. Otero—Otero Junior College, 2222 San Juan Ave., La Junta, Colorado 81050.

4. Lamar—Lamar Community Building, 610 South 6th Street, Lamar, Colorado 81052.

To request an Executive Summary and DVD of the Draft EIS, please contact J. Signe Snortland as indicated above, or call 701-221-1278. The Draft EIS may be viewed or downloaded at the Bureau of Reclamation's Web site at http://www.usbr.gov/avceis. See Supplementary Information section for locations where copies of the Draft EIS are available for public review.

FOR FURTHER INFORMATION CONTACT: J. Signe Snortland, Environmental Specialist at jsnortland@usbr.gov.

SUPPLEMENTARY INFORMATION:

Three proposed federal actions by the Bureau of Reclamation are analyzed in the Draft EIS: (1) Construct and operate the Arkansas Valley Conduit (AVC) and enter into a repayment contract with Southeastern Colorado Water Conservancy District; (2) enter into a conveyance contract with various water providers for use of a pipeline interconnection between Pueblo Dam's south and north outlet works; and (3) enter into a excess capacity master contract with Southeastern Colorado Water Conservancy District to store water in Pueblo Reservoir. While serving similar water supply and delivery purposes, the proposed actions are independent of each other.

The AVC was authorized by Congress in the original Fryingpan-Arkansas legislation in 1962 (Pub. L. 87-590). However, it was not constructed with the original project, primarily because of the beneficiaries' inability to repay the construction costs. In 2009, Congress amended the original legislation in Public Law 111-11, which authorized annual federal funding as necessary for constructing AVC, and included a cost sharing plan with 65 percent federal and 35 percent local funding. The Bureau of Reclamation would enter into a 50-year repayment contract with Southeastern Colorado Water Conservancy District which would be responsible for paying the local share.

The AVC would be a water supply pipeline to help meet existing and future municipal and industrial water demands of southeastern Colorado water providers. Forty towns and rural domestic water supply systems in Pueblo, Crowley, Otero, Bent, Prowers, and Kiowa counties would participate in the AVC. Water providers are requesting annual water deliveries of 10,256 acre-feet to help meet 2070 water demands. Fourteen of these water providers are currently under orders by the Colorado Department of Public Health and Environment to remove naturally-occurring radioactive contaminants from their surface or groundwater source using expensive treatment or to find another better quality water source.

The interconnection would move water between the existing south outlet works and future north outlet works (currently under construction as part of the Southern Deliver System) at Pueblo Reservoir during emergencies or periodic maintenance activities. Interconnect operations would require a long-term (40-year) contract between AVC, Pueblo Fish Hatchery, Board of Water Works of Pueblo, Pueblo West, Southern Delivery System, and Fountain Valley Authority.

The purpose of the excess capacity master contract would be to allow use of extra storage space in Pueblo Reservoir to store up to 29,938 acre-feet of water. A long-term storage contract, rather than short-term contracts, is needed by 37 water providers to help meet projected demand through 2060 (the term of the contract).

Some of the resources potentially affected by the proposed actions that are evaluated in the Draft EIS include: surface water quantity and quality in the Arkansas River and Fryingpan-Arkansas reservoirs, groundwater, climate change, recreation biological resources, human environment, socioeconomics, environmental justice, and historic properties.

Hearing Process and Distribution Information

Requests to make oral comments at the public hearing may be made at the hearing. In order to ensure that all those interested in providing oral comments have an opportunity to do so, oral comments at the hearing will be limited to five minutes. Comments will be recorded by a court reporter. Speakers will be called in the order indicated on the sign in list for speaking. Speakers not present when called will be recalled at the end of the scheduled speakers. Speakers may provide written versions of their oral comments or other additional written comments for the hearing record. Longer comments should be summarized at the public hearing and submitted in writing either at the public hearing or identified as hearing comments and mailed within seven days of the hearing date to J. Signe Snortland as indicated under the Addresses section.

Copies of the Draft EIS are available for public review at the following locations:

• Bureau of Reclamation, Eastern Colorado Area Office, 11056 West County Road 18E, Loveland, Colorado 80537

• Bureau of Reclamation, Great Plains Regional Office, 316 North 26th Street, Billings, Montana 59101

• Carnegie Library—Cañon City, 516 Macon Avenue, Cañon City, Colorado 81212

• Pueblo City-County Library District, 100 E. Abriendo Avenue, Pueblo, Colorado 81004

• Pikes Peak Library District, 5550 North Union Boulevard, Colorado Springs, Colorado 80918

• Pueblo West Public Library, 298 South Joe Martinez Boulevard, Pueblo, Colorado 81007

• Frank & Marie Barkman Library, 1300 Jerry Murphy Road, Pueblo, Colorado 81001

• Pueblo City-County Library District—Lamb Branch, 2525 South Pueblo Boulevard, Pueblo, Colorado 81005

• Salida Regional Library, 405 East Street, Salida, Colorado 81201

• John C. Fremont Library District, 130 Church Ave., Florence, Colorado 81226

• Fountain Branch Library, 230 S. Main St., Fountain, Colorado 80817

• Fowler Public Library, 400 6th Ave., Fowler, Colorado 81039

• La Junta-Woodruff Memorial Library, 522 Colorado Ave., La Junta, Colorado 81050

• Lamar Public Library, 102 E. Parmenter St., Lamar, Colorado 81052

• Las Animas-Bent County Library District, 306 Fifth St., Las Animas, Colorado 81054

• Manzanola School-Public Library, 301 Catalpa, Manzanola, Colorado 81058

• Rocky Ford Public Library, 400 S. 10th St., Rocky Ford, Colorado 81067

• Security Public Library, 715 Aspen Drive, Colorado Springs, Colorado 80911

• Swink School-Public Library, 610 Columbia Ave., Swink, Colorado 81077

• Trimble Library, 1111 Academy Park Loop, Colorado Springs, Colorado 80910

Public Disclosure Statement

Before including your address, phone number, email address, or other personal identifying information in your comment, you should be aware that your entire comment—including your personal identifying information—may be made publicly available at any time. While you may ask us in your comment to withhold your personal identifying information from public review, we cannot guarantee that we will be able to do so.

Dated: August 22, 2012.
Gary W. Campbell,
Deputy Regional Director, Great Plains Region.

[FR Doc. 2012-21328 Filed 8-28-12; 8:45 am]

BILLING CODE 4310-MN-P